DEPARTMENT OF ENERGY

Federal Energy Regulatory Commission

[Project No. 2277-023]

Union Electric Company (dba Ameren Missouri); Notice of Availability of Final Environmental Assessment

In accordance with the National Environmental Policy Act of 1969 and the Federal Energy Regulatory Commission (Commission) regulations, 18 CFR part 380 (Order No. 486, 52 FR 47897), the Office of Energy Projects has reviewed the application for a new license for the Taum Sauk Pumped Storage Project (FERC Project No. 2277), located on the East Fork of the Black River in Reynolds County, Missouri, and prepared a final environmental assessment (EA).

In the final EA, Commission staff analyzes the potential environmental effects of licensing the project, and concludes that issuing a new license for the project, with appropriate environmental measures, would not constitute a major federal action significantly affecting the quality of the human environment.

A copy of the final EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

For further information, please contact Janet Hutzel by telephone at (202) 502-8675, or by email at janet.hutzel@ferc.gov.

Dated: August 29, 2013.
Kimberly D. Bose,
Secretary.

[FR Doc. 2013-21666 Filed 9-5-13; 8:45 am]

BILLING CODE 6717-01-P